DEPARTMENT OF VETERANS AFFAIRS

[OMB Control No. 2900-0661]

Proposed Information Collection (Forms and Regulations for Grants to States for Construction and Acquisition of State Home Facilities) Activity; Comment Request

AGENCY: Veterans Health Administration, Department of Veterans Affairs.

ACTION: Notice.

SUMMARY: The Veterans Health Administration (VHA), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice. This notice solicits comments for information needed to apply for a state home construction grant.

DATES: Written comments and recommendations on the proposed collection of information should be received on or before April 15, 2008.

ADDRESSES: Submit written comments on the collection of information through www.Regulations.gov; or to Mary Stout, Veterans Health Administration (193E1), Department of Veterans Affairs, 810 Vermont Avenue, NW., Washington, DC 20420 or e-mail: mary.stout@va.gov. Please refer to “OMB Control No. 2900-0661” in any correspondence. During the comment period, comments may be viewed online through the Federal Docket Management System (FDMS) at www.Regulations.gov.

FOR FURTHER INFORMATION CONTACT: Mary Stout (202) 461-5867 or FAX (202) 273-9381.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Title: Forms and Regulations for Grants to States for Construction and Acquisition of State Home Facilities, VA Forms 10-0388-10-038-14.

OMB Control Number: 2900-0661.

Type of Review: Extension of a currently approved collection.

Abstract: State governments complete VA Forms 10-0388-10-038-14 to apply for State Home Construction Grant Program and to certify compliance with VA requirements. VA uses this information, along with other documents submitted by the States to determine the feasibility of the projects for VA participation, to meet VA requirements for a grant award and to rank the projects in establishing the annual fiscal year priority list. The list is the basis for committing to State Home construction projects during the various fiscal years.

Affected Public: State, local or tribal Government.

Estimated Annual Burden: 360.

Estimated Average Burden per Respondent: 6 hours.

Frequency of Response: On occasion.

Estimated Number of Respondents: 60.

Dated: February 8, 2008.
By direction of the Secretary:
Denise McLamb,
Program Analyst, Records Management Service.

[FR Doc. E8-2931 Filed 2-14-08; 8:45 am]

BILLING CODE 8320-01-P